DEPARTMENT OF HOMELAND SECURITY

Coast Guard

33 CFR Part 117

[Docket No. USCG-2016-0113]

Drawbridge Operation Regulation; Cape Fear River, Wilmington, NC

AGENCY: Coast Guard, DHS.

ACTION: Notice of deviation from drawbridge regulation.

SUMMARY: The Coast Guard has issued a temporary deviation from the operating schedule that governs the Cape Fear Memorial Bridge which carries US 17 across the Cape Fear River, mile 26.8, at Wilmington, North Carolina. The deviation is necessary to facilitate routine biennial maintenance and inspection of the lift span for the bridge. This deviation allows the bridge to open with an advanced notice instead of opening on signal.

DATES: This deviation is effective from 9 a.m. on March 7, 2016, through 4 p.m. on March 17, 2016.

ADDRESSES: The docket for this deviation, [USCG-2016-0113] is available at http://www.regulations.gov. Type the docket number in the “SEARCH” box and click “SEARCH”. Click on Open Docket Folder on the line associated with this deviation.

FOR FURTHER INFORMATION CONTACT: If you have questions on this rule, call or email Mrs. Jessica Shea, Fifth Coast Guard District (dpb), at (757) 398-6422, email jessica.c.shea2@uscg.mil.

SUPPLEMENTARY INFORMATION: The North Carolina Department of Transportation has requested a temporary deviation from the current operating schedule for the Cape Fear Memorial Bridge that carries US 17 across the Cape Fear River, mile 26.8, at Wilmington, NC. The requested deviation will accommodate the routine biennial maintenance and inspection of the vertical lift span for the drawbridge. To facilitate this work, the draw of the bridge will be maintained in the closed-to-navigation position every day from 9 a.m. until 4 p.m. March 7 through 10, 2016 and again every day from 9 a.m. until 4 p.m. March 14 through 17, 2016. The bridge will open on signal at all other times.

The Cape Fear Memorial Bridge has a vertical clearance of 65 feet above mean high water (MHW) in the closed position and 135 feet above MHW in the open position. It also has an operating schedule set out in 33 CFR 117.822; however this deviation will have no effect on that schedule.

Due to the nature of the work, vessels that require less than 45 feet of clearance do not need to request an opening and may transit safely under the bridge in the closed position. Vessels that require more than 45 feet of clearance but less than 65 feet must provide 30 minutes advanced notice of their transit. The snooper crane that will hang over the side of the bridge to inspect the bridge will be removed to allow for safe transit. Vessels that require 65 feet or greater of clearance must provide one hour advance notice so equipment and personnel can be moved to a safe location to allow for vessel transit. The bridge will be able to open for emergencies and there is no alternate route for vessels. Most waterway traffic consists of recreational boats with a few barges and tugs. The Coast Guard will also inform the users of the waterways through our Local and Broadcast Notice to Mariners of the change in operating schedule for the bridge so that vessel operators can arrange their transits to minimize any impact caused by this temporary deviation.

In accordance with 33 CFR 117.35(e), the drawbridge must return to its regular operating schedule immediately at the end of this effective period of this temporary deviation. This deviation from the operating regulations is authorized under 33 CFR 117.35.

Dated: February 18, 2016.
Hal R. Pitts,
Bridge Program Manager, Fifth Coast Guard District.

[FR Doc. 2016-03723 Filed 2-22-16; 8:45 am]

BILLING CODE 9110-04-P